FARM CREDIT ADMINISTRATION

12 CFR Parts 611 and 614

RIN 3052-AB86

Organization; Loan Policies and Operations; Termination of Farm Credit Status; Effective Date; Correction

AGENCY: Farm Credit Administration.

ACTION: Notice of effective date; correction.

SUMMARY: The Farm Credit Administration (FCA) published a notice of effective date (67 FR 31938, May 13, 2002) that announced the effective date for a final rule amending FCA regulations to allow a Farm Credit System (FCS or System) bank or association to terminate its FCS charter and become a financial institution under another Federal or State chartering authority. This document corrects a typographical error in the notice of effective date.

EFFECTIVE DATE: May 13, 2002.

FOR FURTHER INFORMATION CONTACT: Cindy R. Nicholson, Technical Editor, Office of Policy and Analysis, Farm Credit Administration, McLean, VA 22102-5090, (703) 883-4498, TDD (703) 883-4444.

SUPPLEMENTARY INFORMATION: In preparing the notice for publication in the Federal Register, an error was inadvertently made when stating the Code of Federal Regulations parts in the Effective Date caption.

Accordingly, the Effective Date caption should read as follows: EFFECTIVE DATE: The regulation amending 12 CFR parts 611 and 614 published on April 12, 2002 (67 FR 17907) is effective May 13, 2002.

(12 U.S.C. 2252(a)(9) and (10))
Dated: May 16, 2002.
Kelly Mikel Williams,
Secretary, Farm Credit Administration Board.

[FR Doc. 02-12782 Filed 5-21-02; 8:45 am]

BILLING CODE 6705-01-P